DEPARTMENT OF HOUSING AND URBAN DEVELOPMENT

[Docket No. FR-4483-FA-02]

Announcement of Funding Awards for the HUD Rural Housing and Economic Development Program for Fiscal Year 1999

AGENCY: Office of the Assistant Secretary for Community Planning and Development, HUD.

ACTION: Announcement of funding awards.

SUMMARY: In accordance with section 102 (a)(4)(C) of the Department of Housing and Urban Development Reform Act of 1989, this announcement notifies the public of funding decisions made by the Department in a competition for funding under the Notice of Funding Availability (NOFA) for the Rural Housing and Economic Development Program. This announcement contains the names of the awardees and the amounts of the awards made available by HUD.

FOR FURTHER INFORMATION CONTACT: Jackie W. Mitchell, Director, Office of Rural Housing and Economic Development, Office of Economic Development, Office of Community Planning and Development, 451 7th Street, SW, Washington, DC 20410; telephone (202) 708-2290 (this is not a toll-free number). Hearing- and speech-impaired persons may access this number via TTY by calling the Federal Relay Service toll-free at 1-800-877-8339. For general information on this and other HUD programs, call Community Connections at 1-800-998-9999 or visit the HUD Website at http://www.hud.gov.

SUPPLEMENTARY INFORMATION: The Rural Housing and Economic Development Program was enacted in The Departments of Veterans Affairs and Housing and Urban Development, and Independent Agencies Appropriations Act, 1999 (Pub. L. 105-276, approved October 21, 1998; 112 Stat. 2461, 2475) (the “FY 1999 HUD Appropriations Act”) made $24 million in FY 1999 funds available for competitive funding under the Rural Housing and Economic Development program. The FY 1999 HUD Appropriations Act also specifies that certain unobligated funds authorized by the FY 1998 HUD Appropriations Act (Pub. L. 105-65, approved October 27, 1997; 111 Stat. 1344, 1357) shall be made available under the Rural Housing and Economic Development program. The amount of unobligated funds from this source is $3 million. Therefore, the total amount of funding made available under the NOFA was $27 million. The competition was announced in the NOFA published in the Federal Register on March 8, 1999 (64 FR 4483). Applications were rated and selected for funding on the basis of selection criteria contained in that Notice.

The Catalog of Federal Domestic Assistance number for this program is 14.250.

The Rural Housing and Economic Development Program is designed to build capacity at the State and local level for rural housing and economic development and to support innovative housing and economic development activities in rural areas. The funds made available under this program were awarded competitively, through a selection process conducted by HUD in consultation with the United States Department of Agriculture.

A total of $27 million was awarded to 91 projects nationwide. In accordance with section 102(a)(4)(C) of the Department of Housing and Urban Development Reform Act of 1989 (103 Stat. 1987. 42 U.S.C. 3545), the Department is publishing the grantees and amounts of the awards in Appendix A to this document.

Dated: August 23, 2000.
Cardell Cooper,
Assistant Secretary for Community Planning and Development.

Appendix A—FY 1999 Rural Housing and Economic Development Competitive Grants
Applicant | State | City | Grant
Federation of Southern Cooperatives/Land Assistance Fund | AL | Epes | $207,800
Design Corps | AL | Newbern | 224,190
Upper Sand Mountain United Methodist | AL | Sylvania | 47,300
Metlakatla Indian Community | AK | Metlakatla | 500,000
Alaska Native Village of Tanacross | AK | Tanacross | 600,000
Community Resource Group, Inc | AR | Fayetteville | 467,500
Community Resource Group, Inc | AR | Fayetteville | 222,000
White Mountain Apache CDC | AZ | McNary | 250,000
Comite de Bien Estar | AZ | San Luis | 600,000
Housing America Corporation | AZ | Somerton | 75,000
Fort Defiance Housing Corporation | AZ | Window Rock | 200,000
Bishop Indian Tribal Council | CA | Bishop | 88,201
Community Housing Improvement Program, Inc | CA | Chico | 451,397
Yurok Tribe | CA | Eureka | 200,000
South County Housing Corporation | CA | Gilroy | 500,000
Coachella Valley Housing Coalition | CA | Indio | 200,000
Coachella Valley Housing Coalition | CA | Indio | 600,000
I-5 Social Services Corporation | CA | Mendota | 509,500
Coyote Valley Band of Pomo Indians | CA | Redwood Valley | 32,345
Peoples' Self-Help Housing Corporation | CA | San Luis Obispo | 500,000
Rural Communities Housing Development Corporation | CA | Ukiah | 194,877
Everglades Community Association, Inc | FL | Homestead | 500,000
Neighborhood Housing Services, Inc | ID | Boise | 200,000
Lincoln Hills Development Corporation | IN | Tell City | 160,000
Iowa Finance Authority | IA | Des Moines | 600,000
Mid-America Housing Partnership, Inc | IA | Cedar Rapids | 500,000
Kentucky Farmworker Programs, Inc | KY | Bowling Green | 209,519
Federation of Appalachian Housing Enterprises | KY | Berea | 482,374
Kentucky Highlands Investments Corporation | KY | London | 461,854
Kentucky Mountain Housing Development Corporation, Inc | KY | Manchester | 200,000
Pendleton County Industrial Authority | KY | Falmouth | 200,000
Northlake Community Development Corporation | LA | Hammond | 176,008
Garrett County, Maryland Community Action Committee | MD | Oakland | 504,000
Eastern Maine Development Corporation | ME | Bangor | 129,500
Five-Cap Inc | MI | Scottsville | 500,000
Bi-County Community Action Programs, Inc | MN | Bemidji | 500,000
Three Rivers Community Action, Inc | MN | Zumbrota | 150,000
Blackfeet Tribe | MT | Browning | 600,000
Blackfeet Tribe | MT | Browning | 200,000
Action for Eastern Montana, Inc | MT | Glendive | 126,766
Fort Belknap College | MT | Harlem | 200,000
Rocky Mountain Development Council | MT | Helena | 109,369
Montana Community Development Corporation | MT | Missoula | 199,058
Fort Peck Assiniboine & Sioux Tribes | MT | Poplar | 148,633
The Heritage Institute | MT | Poplar | 501,219
North Central NE Resource Conservation Development and Planning Council | NE | Bassett | 237,800
Central Nebraska Community Services, Inc | NE | Loup City | 195,632
Native Council on Economic and Community Development Corporation | NE | Walthill | 150,000
Haliwa-Saponi Indian Tribe | NC | Hollister | 250,000
WREN-Women's Rural Entrepreneurial Network | NH | Bethlehem | 150,000
New Mexico Mortgage Finance Authority | NM | Albuquerque | 600,000
Housing and Economic Rural Opportunities | NM | Las Cruces | 165,445
Pojoaque Housing Corporation | NM | Santa Fe | 500,000
Citizens for Affordable Homes, Inc | NV | Carson City | 69,075
Sullivan County Partnership for Economic Development | NY | Monticello | 150,000
Partnership for Economic Development | NY | Monticello | 500,000
Bishop Sheen Ecumenical Housing Foundation, Inc | NY | Rochester | 150,000
Rural Opportunities, Inc | NY | Rochester | 390,065
Adirondack Economic Development Corporation | NY | Saranac Lake | 150,000
Portage Area Development Corporation | OH | Ravena | 137,860
Portage Area Development Corporation | OH | Ravena | 500,000
Wa-Ro-Ma-Tri-County Action Foundation, Inc | OK | Claremore | 225,710
Kiowa Tribe of Oklahoma | OK | Anadarko | 143,660
Little Dixie Community Action Agency | OK | Hugo | 199,700
Langston Community Development Corporation | OK | Langston | 200,000
Otoe-Missouria Tribe | OK | Red Rock | 97,805
Citizen Potawatomi Nation | OK | Shawnee | 198,928
Casa of Oregon | OR | Newberg | 200,000
Technical College of the Low Country Foundation, Inc | SC | Beaufort | 193,000
Catawba Indian Nation | SC | Catawba | 600,000
Catawba Indian Nation | SC | Catawba | 250,000
Oti Kaga, Inc | SD | Eagle Butte | 188,796
The Lakota Fund | SD | Kyle | 538,266
Cangleska, Inc | SD | Kyle | 211,764
Rosebud Sioux Tribe | SD | Rosebud | 500,000
Rosebud Sioux Tribe | SD | Rosebud | 196,800
Rio Valle Rainbow, Inc | TX | El Paso | 44,960
El Paso Collaborative for Comm. & Economic Development | TX | El Paso | 200,000
Amigos Del Valle, Inc | TX | Mission | 600,000
ACCION Texas, Inc | TX | San Antonio | 600,000
The Center for Economic Opportunities, Inc | TX | San Juan | 500,000
Virginia Eastern Shore Economic Empowerment & Housing Corporation | VA | Nassawadox | 115,000
Virginia Eastern Shore Economic Empowerment & Housing Corporation | VA | Nassawadox | 175,000
Swinomish Indian Tribal Community | WA | La Conner | 150,000
Okanogan County Community Action Council | WA | Okanogan | 196,665
Department of Community, Trade and Economic Development | WA | Olympia | 600,000
Community Health Center La Clinica | WA | Pasco | 600,000
Institute for Washington's Future | WA | Renton | 199,500
The Jamestown S'Klallam Tribe | WA | Sequim | 117,702
Catholic Charities Bureau, Inc | WI | Superior | 200,000
Mountain Partners in Community Development | WV | Elkins | 151,701

[FR Doc. 00-22352 Filed 8-30-00; 8:45 am]

BILLING CODE 4210-29-P